DEPARTMENT OF THE INTERIOR

Bureau of Land Management

[LLNVC01000 L71220000.EU0000 LVTFF0900400 241A; N-87749; 10-08807; MO# 4500012544; TAS: 14X5260]

Notice of Realty Action: Proposed sale of Public Lands, Churchill County, NV

AGENCY: Bureau of Land Management, Interior.

ACTION: Notice of realty action.

SUMMARY: The Bureau of Land Management (BLM) proposes to sell, at no less than the appraised fair market value, approximately 800 acres of public lands in Churchill County, Nevada, through direct sale procedures under the provisions of Section 203 of the Federal Land Policy and Management Act (FLPMA) of 1976, as amended. Upon publication of this notice, the lands will be segregated for a period of up to 2 years from all forms of appropriation under the public land laws, including the mining laws, except the sale provisions of FLPMA, in order to facilitate orderly processing of this proposed sale.

DATES: Interested parties may submit written comments to the BLM regarding the proposed sale of these lands until October 7, 2010.

ADDRESSES: Written comments may be submitted by mail to the Field Manager, BLM Stillwater Field Office, 5665 Morgan Mill Road, Carson City, Nevada 89701, e-mail: ccfoweb@nv.blm.gov, or fax: (775) 882-6147.

FOR FURTHER INFORMATION CONTACT: Erik Pignata, telephone (775) 885-6110 or e-mail Erik_Pignata@blm.gov.

SUPPLEMENTARY INFORMATION: The following described public lands in Churchill County, Nevada, proposed for sale are located 65 miles northeast of Fallon, Nevada.

Mount Diablo Meridian

T. 21 N., R. 39 E.,

sec. 2, SW¼;

sec. 3, SE¼;

sec. 10, NE¼;

sec. 14, W½.

The areas described aggregate 800 acres, more or less, in Churchill County. The 2001 BLM Carson City Consolidated Resource Management Plan identifies these public lands as suitable for disposal. The lands are not needed for any Federal purpose, and their disposal would be in the public interest. The sale meets the disposal qualification of Section 205 of the Federal Land Transaction Facilitation Act of July 25, 2000, 43 U.S.C. 2304. The sale will be subject to the provisions of FLPMA and applicable regulations of the Secretary of the Interior (Secretary), specifically those regulations governing direct sale procedures and the patent, when issued, will contain the reservation to the United States of a right-of-way thereon for ditches or canals constructed by the authority of the United States, Act of August 30, 1890 (43 U.S.C. 945). All mineral deposits in the parcel shall be reserved to the United States together with the right to prospect for, mine and remove the minerals, according to any regulations the Secretary shall prescribe, along with all necessary access and exit rights.

The conveyance will be subject to:

1. Valid existing rights and encumbrances of record, including but not limited to, rights-of-way for roads and public utilities;

2. A right-of-way, NVN-11441, for a power line granted to Sierra Pacific Power Company, its successors and assigns, pursuant to the Act of March 4, 1911, 43 U.S.C. 961; and

3. An appropriate indemnification clause protecting the United States from claims arising out of the lessees/patentees use, occupancy, or occupations on the leased/patented lands. Pursuant to the requirements established by Section 120(h) of the Comprehensive Environmental Response, Compensation and Liability Act (42 U.S.C. 9620(h)), as amended by the Superfund Amendments and Reauthorization Act of 1988, (100 Stat. 1670), notice is hereby given that the above-described parcel has been examined and no evidence was found to indicate that any hazardous substances have been stored for 1 year or more, nor have any hazardous substances been disposed of or released on the subject property.

Upon publication of this notice in the Federal Register, the described lands will be segregated from all forms of appropriation under the public land laws, including the mining laws, except the sale provisions of the FLPMA. Upon segregation, the BLM will no longer accept land use applications affecting the identified public lands, except applications for the amendment of previously filed right-of-way applications or existing authorizations to increase the term of the grants in accordance with 43 CFR 2807.15 and 43 CFR 2886.15. The segregative effect will terminate upon issuance of a patent, publication in the Federal Register of a termination of the segregation, or August 23, 2012, unless extended by the BLM Nevada State Director in accordance with 43 CFR 2711.1-2(d) prior to the termination date.

Interested parties and the general public may submit in writing any comments concerning the lands being considered for sale, including notification of any encumbrances or other claims relating to the identified land to the Field Manager, BLM Stillwater Field Office.

In order to ensure consideration in the environmental analysis of the proposed sale, comments must be in writing and postmarked by October 7, 2010. Only written comments submitted by mail, e-mail, fax, or delivered to the Field Manager, BLM Stillwater Field Office, and received by the date indicated in the DATES section of this notice, will be considered properly filed. Before including your address, phone number, e-mail, or other personal identifying information in your comment, you should be aware that your entire comment—including your personal identifying information-may be made publicly available at any time. While you can ask us in your comment to withhold your personal identifying information from public review, we cannot guarantee that we will be able to do so.

Any adverse comments will be reviewed by the BLM Nevada State Director who may sustain, vacate, or modify this realty action. In the absence of any adverse comments, this realty action will become the final determination of the Department of the Interior.

Authority: 43 CFR 2711.1-2.

Teresa J. Knutson,
Manager, Stillwater Field Office.

[FR Doc. 2010-20669 Filed 8-20-10; 8:45 am]

BILLING CODE 4310-HC-P